DEPARTMENT OF ENERGY

Federal Energy Regulatory Commission

[Docket No. CP15-557-000]

Total Peaking Services, LLC; Notice of Request for Extension of Time

Take notice that on September 16, 2020, Total Peaking Services, LLC (Total Peaking) requested that the Federal Energy Regulatory Commission (Commission) grant an extension of time, until December 15, 2021, to complete upgrades to its existing liquefied natural gas facility (Milford Facility) in Milford, Connecticut, as authorized in the December 15, 2016 Order Issuing Certificate, Approving Abandonment, and Reaffirming Market-Based Rate Authority (Certificate Order).¹ The Certificate Order required Total Peaking to complete the proposed upgrades, including the installation of three new 400 kilowatt emergency generators, and make the facilities available for service within three years of issuance, or by December 15, 2019.²

¹ Total Peaking Services, LLC, 157 FERC ¶ 61,209 (2016), amended, 158 FERC ¶ 61,025 (2017).

² Certificate Order, 157 FERC ¶ 61,209 at ordering para. (B).

Total Peaking initially requested a one-year extension of time on November 26, 2019, to complete construction on the third emergency generator.³ On December 11, 2019, the Commission granted Total Peaking's November 26, 2019 request.⁴ In its September 16, 2020 request, Total Peaking states that due to unforeseen delays in 2020, including the impact of the Novel Coronavirus Disease (COVID-19) and extended equipment lead times, the third generator will not be completed by December 15, 2020.⁵

³ Total Peaking's November 26, 2019 Request for Extension of Time.

⁴ Branch Chief's December 11, 2019 Letter Order Granting Extension of Time issued in Docket No. CP15-557-000.

⁵ Total Peaking's September 16, 2020 Request for Extension of Time at 2.

This notice establishes a 15-calendar day intervention and comment period deadline. Any person wishing to comment on Total Peaking's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁶

⁶ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁷ the Commission will aim to issue an order acting on the request within 45 days.⁸ The Commission will address all arguments relating to whether the applicant has demonstrated there is good cause to grant the extension.⁹ The Commission will not consider arguments that re-litigate the issuance of the April 15th Certificate order, including whether the Commission properly found the project to be in the public convenience and necessity and whether the Commission's environmental analysis for the certificate complied with the National Environmental Policy Act.¹⁰ At the time a pipeline requests an extension of time, orders on certificates of public convenience and necessity are final and the Commission will not re-litigate their issuance.¹¹ The OEP Director, or his or her designee, will act on those extension requests that are uncontested.

⁷ Contested proceedings are those where an intervenor disputes any material issue of the filing. 18 CFR 385.2201(c)(1) (2020).

⁸ Algonquin Gas Transmission, LLC, 170 FERC ¶ 61,144, at P 40 (2020).

⁹ Id. P 40.

¹⁰ Similarly, the Commission will not re-litigate the issuance of an NGA section 3 authorization, including whether a proposed project is not inconsistent with the public interest and whether the Commission's environmental analysis for the permit order complied with NEPA.

¹¹ Algonquin Gas Transmission, LLC, 170 FERC ¶ 61,144, at P 40 (2020).

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on October 13, 2020.

Dated: September 25, 2020.
Kimberly D. Bose,
Secretary.

[FR Doc. 2020-21719 Filed 9-30-20; 8:45 am]

BILLING CODE 6717-01-P